DEPARTMENT OF AGRICULTURE

Rural Utilities Service

Basin Electric Power Cooperative: Deer Creek Station

AGENCY: Rural Utilities Service, USDA.

ACTION: Notice of availability of Draft Environmental Impact Statement.

SUMMARY: The Rural Utilities Service (RUS) and the Western Area Power Administration (Western) have issued a Draft Environmental Impact Statement (DEIS) for the proposed Deer Creek Station in White, Brookings County, South Dakota. The DEIS was prepared pursuant to the National Environmental Policy Act (NEPA) in accordance with the Council on Environmental Quality (CEQ) regulations for implementing the procedural provisions of NEPA (40 CFR parts 1500-1508), RUS's NEPA implementing regulations (7 CFR part 1794), and Western's NEPA implementing regulations (10 CFR part 1021). Western is the lead federal agency as defined at 40 CFR 1501.5; RUS is a cooperating agency. The purpose of the DEIS is to evaluate the potential environmental impacts of and alternatives to Basin Electric Power Cooperative's (Basin Electric) application for a RUS loan and a Western interconnection agreement to construct the proposed 300 megawatt (MW) Deer Creek Station in Brookings and Deuel Counties, South Dakota (Project). The proposed facility would include a new natural gas-fired combustion turbine set, a heat recovery steam generator (HRSG), and a steam turbine generator set.

DATES: With this notice, RUS invites any affected Federal, State, and local agencies and other interested persons to comment on the DEIS. Written comments on this DEIS will be accepted for 45 days following the publication of the U.S. Environmental Protection Agency's notice of availability for this DEIS in the Federal Register, which occurred on February 5, 2010.

Western, as lead agency, will hold a public meeting on February 25, 2010, from 6 to 8 p.m. at McKnight Community Hall, located at: 228 W. Main St., White, South Dakota. RUS will be in attendance. In accordance with 40 CFR 1503.1, Inviting Comments, the purpose of the meeting will be to solicit comments from interested parties on the DEIS for the Deer Creek Station. A copy of the DEIS can be obtained or viewed online at: http://www.usda.gov/rus/water/ees/eis.htm.Copies of the DEIS will also be available for public review at the following locations (hours vary; contact individual repositories for available times):

Brookings Public Library, 515 3rd Street, Brookings, SD; telephone: (605) 692-9407;

SDSU Hilton M. Briggs Library, South Dakota State University, Brookings, SD; telephone: (605) 688-5570;

Deubrook Community Library, 100 School Avenue, White, SD;

Elkton City Hall, Elkton, SD;

Siverson Public Library, 100 W. Garfield, Hendricks, MN;

Brookings County Commission Office, 314 6th Avenue, Brookings, SD.

ADDRESSES: To send comments or request additional information, contact: Ms. Lauren McGee, Environmental Scientist, USDA, Rural Utilities Service, 1400 Independence Avenue, SW., Stop 1571, Washington, DC 20250-1571, telephone: (202) 720-1482, fax: (202) 690-0649, or e-mail: lauren.mcgee @wdc.usda.gov.

SUPPLEMENTARY INFORMATION: Basin Electric's proposed Project is to construct, own, operate, and maintain the Deer Creek Station Energy Facility Project, a 300 MW combined-cycle natural gas generation facility, water pipeline, transmission lines, transmission interconnection(s), and other associated facilities, all in Brookings and Deuel counties in eastern South Dakota. The purpose of the proposed Project is to help serve increased load demand for electric power in the eastern portion of Basin Electric's service area. Basin Electric's eastern service area includes western Nebraska, northwestern and central Iowa, portions of southern Minnesota, all of South Dakota, portions of eastern Montana, and western and central North Dakota. The need for additional generating capacity is driven by the increasing electrical power usage of the Basin Electric membership consumers. Between 1999 and 2006, Basin Electric's total system peak demand increased 752 MW from 1,195 MW to 1,947 MW, or approximately 107 MW per year. In 2007, Basin Electric prepared a forecast showing load and capability surpluses/deficits through the year 2021. The forecast predicted that by 2014, there will be a deficit of 800-900 MW for the eastern portion of its service area. The proposed Project's addition of 300 MW of generation will help meet Basin Electric's future energy requirements.

Basin Electric's proposed Project is subject to the jurisdiction of the South Dakota Public Utilities Commission (SDPUC) which has regulatory authority for siting power plants and transmission lines within the State. Basin Electric will submit an application for an Energy Conversion Facility Permit and a Route Permit to the SDPUC. The SDPUC permits would authorize Basin Electric to construct the proposed Project under South Dakota rules and regulations.

After considering various ways to meet these future needs, Basin Electric identified construction of the proposed Project as its best course of action. This DEIS considered 17 alternatives to meet the future energy requirements of the eastern portion of its service area. These alternatives were evaluated in terms of cost-effectiveness, technical feasibility, and environmental factors.

The DEIS analyzes in detail the no action alternative and the proposed action (Deer Creek station and related facilities) at two separate locations: White Site I (Brookings County, T111N R48W, Section 25 NE Quarter) and White Site II (Brookings County, T111N R48W, Section 2 NW Quarter).

Because the proposed Project may involve action in floodplains or wetlands, this Notice of Availability also serves as a notice of proposed floodplain or wetland action. The DEIS includes a floodplain/wetland assessment and floodplain/wetland statement of findings following DOE regulations for compliance with floodplain and wetlands environmental review (10 CFR part 1022).

Any action by RUS related to the proposed Project will be subject to, and contingent upon, compliance with all relevant Federal, state and local environmental laws and regulations, and completion of the environmental review requirements as prescribed in RUS's Environmental Policies and Procedures, 7 CFR part 1794, as amended.

Dated: February 19, 2010.
Nivin A. Elgohary,
Acting Assistant Administrator, Electric Programs, Rural Utilities Service.

[FR Doc. 2010-3986 Filed 2-25-10; 8:45 am]

BILLING CODE P